DEPARTMENT OF ENERGY

Federal Energy Regulatory Commission

[Docket No. RP03-114-000, et al.]

Notice of Gas Research Institute Filings

December 6, 2002.

In the matter of: RP03-114-000, RP03-140-000, RP03-137-000, RP03-130-000, RP03-170-000, RP03-171-000, RP03-113-000, RP03-169-000, RP03-139-000, RP03-133-000, RP03-185-000, RP03-158-000, RP03-132-000, RP03-131-000, RP03-128-000, RP03-155-000, RP03-124-000, RP03-126-000, RP03-109-000, RP03-127-000.Algonquin Gas Transmission Company, ANR Pipeline Company, CenterPoint Energy—Mississippi River Transmission, CMS Trunkline Gas Company, LLC, Columbia Gas Transmission Corporation, Columbia Gulf Transmission Corporation, East Tennessee Natural Gas Company, Granite State Gas Transmission, Great Lakes Gas Transmission Limited Partnership, Iroquois Gas Transmission System, Midwestern Gas Transmission Company, National Fuel Gas Supply Corporation, Natural Gas Pipeline Company of America, Northern Natural Gas Company, Panhandle Eastern Pipe Line Company, Questar Pipeline Company, Southern Natural Gas Company, Tennessee Gas Pipeline Company, Texas Eastern Transmission, LP, Viking Gas Transmission Company.

Take notice that the above referenced pipelines have tendered for filing tariff sheets in compliance with the Gas Research Institute (GRI) requirement.

The pipelines state that the purpose of their filings is to revise the GRI surcharges to be effective January 1, 2003, in compliance with the January 21, 1998,

Stipulation and Agreement Concerning GRI Funding approved by the Commission in Gas Research Institute, 83 FERC ¶ 61,093 (1998), order on reh'g, 83 FERC ¶ 61, 331 (1998).

The pipelines state that their filings comply with the surcharges set forth in Appendix A to the Stipulation and Agreement as follows: (1) a demand/reservation surcharge of 5.0 cents per Dth per Month for “high load factor customers” (2) a demand/reservation surcharge of 3.1 cents per Dth per Month for “low load factor customers” (3) a volumetric commodity/usage surcharge of 0.4 cents; and (4) a special “small customer” surcharge of 0.6 cents per Dth.

Any person desiring to become a party in a proceeding, must file a separate motion to intervene or protest in each docket.

Any person desiring to be heard or to protest any one of the above-captioned filings should file in the relevant individual docket a motion to intervene or a protest with the Federal Energy Regulatory Commission, 888 First Street, NE., Washington, DC 20426, in accordance with Sections 385.214 or 385.211 of the Commission's Rules and Regulations. All such motions or protests must be filed on or before December 13, 2002. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For Assistance, please contact FERC Online Support at FERCOnlineSupport@ferc.gov or toll-free at (866) 208-3676, or TTY, contact (202) 502-8659. Comments, protests and interventions may be filed electronically via the Internet in lieu of paper. The Commission strongly encourages electronic filings. See 18 CFR 385.2001(a)(1)(iii) and the instructions on the Commission's Web site under the “e-Filing” link.

Magalie R. Salas,
Secretary.

[FR Doc. 02-31326 Filed 12-11-02; 8:45 am]

BILLING CODE 6717-01-P